DEPARTMENT OF ENERGY

10 CFR Parts 429 and 431

[Docket No. EERE-2014-BT-TP-0054]

RIN 1904-AD43

Energy Conservation Program: Test Procedures for Compressors

Correction

In proposed rule document 2016-10170 beginning on page 27220 in the issue of Thursday, May 5, 2016, make the following correction:

Appendix A to Subpart T of Part 431—Uniform Test Method for Certain Air Compressors

In Appendix A to Subpart T of Part 431, on page 27258, in the first column, above the thirteenth line from the bottom, insert the following equation:

Preal,100% = K5 · PPR,100%

[FR Doc. C1-2016-10170 Filed 6-24-16; 8:45 am]

BILLING CODE 1505-01-D